ENVIRONMENTAL PROTECTION AGENCY

40 CFR PART 52

[R05-OAR-2005-OH-0002; FRL-7958-4]

Approval and Disapproval of Ohio Implementation Plan for Particulate Matter

AGENCY: Environmental Protection Agency (EPA).

ACTION: Proposed rule; reopening of the public comment period.

SUMMARY: EPA is reopening the comment period for a proposed rule published June 27, 2005 (70 FR 36901). On June 27, 2005, EPA proposed to disapprove revisions to Ohio rules that provide for use of continuous opacity monitoring data but allow more exceedances of the general opacity limit in cases where the owner of an eligible large coal fired boiler opts to use these data for determining compliance. EPA also proposed to approve other elements of Ohio's rule submittal that clarified Ohio's rules. In response to requests from the Ohio Environmental Protection Agency and from the law firm of Shumaker, Loop & Kendrick, EPA is reopening the comment period through August 24, 2005. All comments received on or before August 24, 2005 will be entered into the public record and considered by EPA before taking final action on the proposed rule.

DATES: Comments must be received on or before August 24, 2005.

ADDRESSES: Submit comments, identified by Regional Material in EDocket (RME) ID No. R05-OAR-2005-OH-0002, to: John Mooney, Chief, Criteria Pollutant Section, (AR-18J), U.S. Environmental Protection Agency, 77 West Jackson Boulevard, Chicago, Illinois 60604. Phone: (312) 886-4447. E-mail: mooney.john@epa.gov. Additional instructions to comment can be found in the notice of proposed rulemaking published June 27, 2005 (70 FR 36901).

FOR FURTHER INFORMATION CONTACT: John Summerhays, Criteria Pollutant Section (AR-18J), U.S. Environmental Protection Agency, 77 West Jackson Boulevard, Chicago, Illinois 60604, Telephone Number: (312) 353-4761, E-mail Address: summerhays.john@epa.gov.

Dated: August 2, 2005.
Bharat Mathur,
Acting Regional Administrator, Region 5.

[FR Doc. 05-16811 Filed 8-23-05; 8:45 am]

BILLING CODE 6560-50-P